DEPARTMENT OF COMMERCE

International Trade Administration

Initiation of Antidumping and Countervailing Duty Administrative Reviews and Request for Revocation in Part

AGENCY: Import Administration, International Trade Administration, Department of Commerce.

ACTION: Notice of initiation of antidumping and countervailing duty administrative reviews and request for revocation in part.

SUMMARY: The Department of Commerce has received requests to conduct administrative reviews of various antidumping and countervailing duty orders and findings with May anniversary dates. In accordance with the Department's regulations, we are initiating those administrative reviews. The Department of Commerce also received a request to revoke one antidumping duty order in part.

EFFECTIVE DATE: July 1, 2003.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b) (2002), for administrative reviews of various antidumping and countervailing duty orders and findings with May anniversary dates. With respect to Certain Softwood Lumber Products from Canada, the initiation of the antidumping administrative review for that case is being published in a separate notice. The Department also received a timely request to revoke in part the antidumping duty order on Certain Polyester Staple Fiber from the Republic of Korea.

Initiation of Reviews

In accordance with 19 CFR 351.221(c)(1)(i), we are initiating administrative reviews of the following antidumping and countervailing duty orders and findings. We intend to issue the final results of these reviews not later than May 31, 2004.

| Period to be reviewed
Antidumping duty Proceedings
Belgium: Stainless Steel Plate in Coils, A-423-808 | 5/1/02-4/30/03
ALZ, N.V.
Brazil: Frozen Concentrated Orange Juice, A-351-605 | 5/1/02-4/30/03
Citrovita Agro Industrial Ltda/Cambuhy MC Industrial Ltda/Cambuhy Citrus Comercial e Exportadora
Branco Peres Citrus S.A.
CTM Citrus S.A.
Sucorrico S.A.
Kazakhstan: Silicomanganese, A-834-807 | 5/1/02-4/30/03
Considar, Inc.
Republic of Korea: Certain Polyester Staple Fiber, A-580-839 | 5/1/02-4/30/03
Daehan Synthetic Fiber Co.
Daeyang Industrial Co., Ltd.
East Young Co., Ltd.
Estal Industry Co., Ltd.
Geum Poong Corporation
Huvis Corporation
Keon Baek Co., Ltd.
Mijung Ind. Co., Ltd.
Saehan Industries, Inc.
Samheung Co., Ltd.
Sam Young Synthetics Co., Ltd.
Sunglim Co., Ltd.
Taiwan: Stainless Steel Plate in Coils, A-583-830 | 5/1/02-4/30/03
Ta Chen Stainless Pipe Co., Ltd.
Yieh United Steel Corporation
Taiwan: Certain Circular Welded Carbon Steel Pipe and Tubes, A-583-008 | 5/1/02-4/30/03
Yieh Hsing
The People's Republic of China: Iron Construction Castings ¹, A-570-502 | 5/1/02-4/30/03
Shandong Himight Machinery Co., Ltd.²
Turkey: Certain Welded Carbon Steel Pipe and Tube, A-489-501 | 5/1/02-4/30/03
The Borusan Group
¹ If the above named company does not qualify for a separate rate, all other exporters of iron construction castings from the People's Republic of China who have not qualified for a separate rate are deemed to be covered by this review as part of the single PRC entity of which the named exporter is a part.
² The request was for a review of “manhole covers, exported by Shandong Himight Machinery Co., Ltd., and produced by Weifang Fangzi Mucun Foundry (Mucun Foundry) and Weifang Fangzi Tongbao Foundry (Tongbao Foundry).” In accordance with Department practice, we will review all exports of subject merchandise by Shandong Himight Machinery Co., Ltd., regardless of manufacturer. Furthermore, the request noted that, while “Shandong Himight Co., Ltd. is the real exporter,” it paid another company a management fee to use its name to conduct the export.

| Period/class or kind
Antifriction bearings proceedings and firms
France: A-427-801 | 5/1/02-4/30/03
BTM | Ball
Budapesti Sved Csapagy Kft. | Ball
Delta Export GmbH | Ball
Justy Corp. | Ball
Ringball Corporation | Ball & Spherical
SKF | Ball
SNR | Ball
Germany: A-428-802 | 5/1/02-4/30/03
Ace Bearing & Transmission Co. | Ball
Acorn Industrial Service | Ball
Aktif Endustri Malzemeleri | Ball
Alphateam SPRL | Ball
Australian Bearing Pty Ltd. | Ball
Baltic Bearing Supply Gmbh | Ball
Bearing & Tool Gmbh | Ball
Bearing Discount International Gmbh | Ball
Bearing Dynamics | Ball
Bearing Net | Ball
Bearing Sales Corp. | Ball
BTM | Ball
BTM Bearing Trade F.C. Miltner | Ball
Budapesti Sved Csapagy Ltd. | Ball
Cantoni & C.S.N.C. | Ball
CCVI Bearing Co. | Ball
Comal SNC | Ball
DCD Corp. | Ball
Delta Export Gmbh | Ball
EuroLatin Ex. Services | Ball
FAG | Ball
Fair Friend Ent. Co. Ltd. | Ball
Friedrich Picard Gmbh | Ball
Froklich & Dorken Gmbh | Ball
Godiva Bearing Ltd. | Ball
Han Sol Tech. Corp/Yoo Shin Co. | Ball
Hayley Import/Export | Ball
Heinz Knust | Ball
Hergenhan Gmbh | Ball
Hoens Industriel BV | Ball
IBD Ltd. | Ball
INA | Ball
International Bearing Pte. Ltd. | Ball
Interspecies Donath Gmbh | Ball
Italcuscinetti Group | Ball
Justy Corp. | Ball
Kian Ho Bearings, Ltd. | Ball
KIS Antriebs Technik Gmbh | Ball
KSM, Minamiguchi/ Bearing Manufacturing Co. | Ball
Kugellager Weber | Ball
LTM Industrietechnik | Ball
M. Buchhalter Maschenmode/Hergenhan | Ball
Micaknowledge | Ball
Minetti SPA | Ball
Ming Hing Trading Co. | Ball
Motion Bearing Pte. Ltd | Ball
Paul Mueller | Ball
Ringball Corporation | Ball
Rodamientos Rovi | Ball
Roeirasa | Ball
Rolling Bearing Co. Pty Ltd. | Ball
Rovi-Marcay | Ball
Rovi-Valencia | Ball
SKF | Ball
Sprint Engineering | Ball
Taisho Kiko Co. Ltd. | Ball
Taninaka Ltd. | Ball
Timken | Ball
Top G Trading Pte Ltd. | Ball
Weber Kugellager Int. | Ball
Withus Technology Corp. | Ball
Wyko Export, Division of Wyko Grp/Wyko-Ewb | Ball
Italy: A-475-201 | 5/1/02-4/30/03
Ace Bearing & Transmission Co. | Ball
Acorn Industrial Service | Ball
Aktif Endustri Malzemeleri | Ball
Alphateam SPRL | Ball
Australian Bearing Pty Ltd. | Ball
Baltic Bearing Supply Gmbh | Ball
Bearing & Tool Gmbh | Ball
Bearing Discount International Gmbh | Ball
Bearing Dynamics | Ball
Bearing Net | Ball
Bearing Sales Corp. | Ball
BTM | Ball
BTM Bearing Trade F.C. Miltner | Ball
Budapesti Sved Csapagy Ltd. | Ball
Cantoni & C.S.N.C. | Ball
CCVI Bearing Co. | Ball
Comal SNC | Ball
DCD Corp. | Ball
Delta Export Gmbh | Ball
EuroLatin Ex. Services | Ball
FAG | Ball
Fair Friend Ent. Co. Ltd. | Ball
Friedrich Picard Gmbh | Ball
Froklich & Dorken Gmbh | Ball
Han Sol Tech. Corp/Yoo Shin Co. | Ball
Hayley Import/Export | Ball
Heinz Knust | Ball
Hergenhan Gmbh | Ball
Hoens Industriel BV | Ball
IBD Ltd. | Ball
International Bearing Pte. Ltd. | Ball
Interspecies Donath Gmbh | Ball
Italcuscinetti Group | Ball
Justy Corp. | Ball
Kian Ho Bearings, Ltd. | Ball
KIS Antriebs Technik Gmbh | Ball
KSM, Minamiguchi/ Bearing Manufacturing Co. | Ball
Kugellager Weber | Ball
LTM Industrietechnik | Ball
M. Buchhalter Maschenmode/Hergenhan | Ball
Micaknowledge | Ball
Minetti SPA | Ball
Ming Hing Trading Co. (Formerly BTM) | Ball
Motion Bearing Pte. Ltd | Ball
Ringball Corporation | Ball
Rodamientos Rovi | Ball
Roeirasa | Ball
Rolling Bearing Co. Pty Ltd. | Ball
Rovi-Marcay | Ball
Rovi-Valencia | Ball
SKF | Ball
Sprint Engineering | Ball
Taisho Kiko Co. Ltd. | Ball
Taninaka Ltd. | Ball
Top G Trading Pte Ltd. | Ball
Weber Kugellager Int. | Ball
Withus Technology Corp. | Ball
Wyko Export, Division of Wyko Grp/Wyko-Ewb | Ball
Japan: A-588-804 | 5/1/02-40/30/03
Asahi Seiko Co. Ltd. | Ball
IMA Corp. | Ball
Justy Corp. | Ball
Koyo Seiko Co., Ltd | Ball
Nachi | Ball
Nankai Seiko (SMT) | Ball
NPBS | Ball
NSK | Ball
NTN Corporation | Ball
Osaka Pump Co. Ltd | Ball
Ringball Corporation | Ball
Sapporo Precision Bearings, Inc. | Ball
SNR Roulements | Ball
Taisei Industries, Ltd. | Ball
Takeshita Seiko Co., Ltd. | Ball
TEC Engineering Co., Ltd | Ball
Yoshida Shokai | Ball
Singapore: A-599-801 | 5/1/02-4/30/03
NMB/Pelmec | Ball
U.K.: A-412-801 | 5/1/02-4/30/03
Aeroengine Bearings UK | Ball
Barden/FAG | Ball
BTM | Ball
Budapesti Sved Csapagy Kft. | Ball
Delta Export Gmbh | Ball
Justy Corp. | Ball
NSK Bearings Europe | Ball
SKF | Ball
Countervailing Duty Proceedings
Canada: Certain Softwood Lumber Products,³ C-122-839 | 5/22/02-3/31/03
³ The Department received requests that it conduct an aggregate review from, among others, the Coalition for Fair Lumber Imports Executive Committee and the Government of Canada, as well as approximately 400 requests for review covering an estimated 290 individual companies. In light of these requests, the Department is considering its options under section 777A(e)(2) of the Act.

Suspension Agreements

None.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: June 26, 2003.
Holly A. Kuga,
Acting Deputy Assistant Secretary, Group II for Import Administration.

[FR Doc. 03-16647 Filed 6-30-03; 8:45 am]

BILLING CODE 3510-DS-P